DEPARTMENT OF ENERGY

Federal Energy Regulatory Commission

Notice of Application Ready For Environmental Analysis and Soliciting Comments, Recommendations, Terms and Conditions, and Prescriptions

November 1, 2002.

Take notice that the following hydroelectric application has been filed with the Commission and is available for public inspection.

a. Type of Application: New Major License.

b. Project No.: 7000-015.

c. Date filed: January 30, 2002.

d. Applicant: Orion Power New York GP II, Inc.

e. Name of Project: Newton Falls Project.

f. Location: On the Oswegatchie River, in St. Lawrence County, New York. This project does not affect federal lands.

g. Filed Pursuant to: Federal Power Act 16 U.S.C. 791 (a)—825(r).

h. Applicant Contact: Jerry Sabattis, Reliant Energy, 225 Greenfield Parkway, Suite 201, Liverpool, NY 13088, (315) 413-2787 or Sam Hirschey Reliant Energy, 225 Greenfield Parkway, Suite 201, Liverpool, NY 13088, (315) 413-2790.

i. Commission Contact: Any questions concerning this notice should be addressed to Janet Hutzel, e-mail address janet.hutzel@ferc.gov, or telephone (202) 502-8675.

j. Deadline for filing comments, recommendations, terms and conditions, and prescriptions: 60 days from the issuance of this notice.

All documents (original and eight copies) should be filed with: Magalie R. Salas, Secretary, Federal Energy Regulatory Commission, 888 First Street, NE., Washington, DC 20426. Comments, recommendations, terms and conditions, and prescriptions may be filed electronically via the Internet in lieu of paper. The Commission strongly encourages electronic filings. See 18 CFR 385.2001(a)(1)(iii) and the instructions on the Commission's web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Status of environmental analysis: This application has been accepted for filing and is now ready for environmental analysis. At this time we do not anticipate the need for preparing a draft EA. We intend to prepare one environmental document. The EA will include our recommendations for operating procedures and environmental enhancement measures that should be part of any new license issued by the Commission. Recipients will have 45 days to provide the Commission with any comments on that document. All comments on the EA, filed with the Commission, will be considered in an Order taking final action on the license application. However, should substantive comments requiring reanalysis be received on the NEPA document, we would consider preparing a subsequent NEPA document.

l. The Newton Falls Project consists of two developments and has a total installed capacity of 2,220 kilowatts. The upper development includes a 600-foot-long dam, a 650-acre reservoir, a 1,200-foot-long bypassed reach, and a powerhouse with three turbine-generator units having a combined installed capacity of 1,540 kW. The lower development includes a 350-foot-long dam, a 9-acre reservoir, a 300-foot-long bypassed reach, and a powerhouse with one turbine-generator unit having an installed capacity of 680 kW. The upper development powerhouse discharges directly to the lower development impoundment and the project is operated in a storage-and-release peaking mode. The project produces an average of approximately 9,500 megawatt-hours of energy per year.

m. A copy of the application is on file with the Commission and is available for public inspection. This filing may also be viewed on the web at http://www.ferc.gov using the “FERRIS” link. Enter the docket number excluding the last three digits in the docket number field to access the document. For assistance, please contact FERC Online Support at FERCOnlineSupport@ferc.gov or toll free at (866) 208-3676, or for TTY, contact (202) 502-8659. A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice. Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-28442 Filed 11-7-02; 8:45 am]

BILLING CODE 6717-01-P